ENVIRONMENTAL PROTECTION AGENCY

[FRL-7007-5]

Agency Information Collection Activities: Submission for OMB Review; Comment Request; Standards of Performance for Storage Vessels for Petroleum Liquids for Which Construction, Reconstruction, or Modification Commenced After May 18, 1978 and Prior to July 23, 1984

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Standards of Performance for Storage Vessels for Petroleum Liquids for Which Construction, Reconstruction, or Modification Commenced After May 18, 1978 and Prior to July 23, 1984, EPA ICR Number 1050.07 and OMB Control Number 2060-0121 expiring on June 30, 2001. The ICR describes the nature of the information collection and its expected burden and cost; where appropriate, it includes the actual data collection instrument.

DATES: Comments must be submitted on or before August 6, 2001.

ADDRESSES: Send comments, referencing EPA ICR Number 1050.07 and OMB Control Number 2060-0121, to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at farmer.sandy@epamail.epa.gov, or download off the Internet at http://www.epa.gov/icr and refer to EPA ICR Number 1050.07. For technical questions about the ICR contact Everett Bishop, phone: (202) 564-7032; fax: (202) 564-0050 or email: bishop.everett@epa.gov.

SUPPLEMENTARY INFORMATION Title: Standards of Performance for Storage Vessels for Petroleum Liquids for Which Construction, Reconstruction, or Modification Commenced After May 18, 1978 and Prior to July 23, 1984, EPA ICR Number 1050.07 and OMB Control Number 2060-0121 expiring on June 30, 2001. This is a request for extension of a currently approved collection.

Abstract: Volatile Organic Compounds (VOCs) from storage vessels cause or contribute to air pollution that may reasonably be anticipated to endanger public health. VOC emissions are the result of evaporation of volatile organic liquids contained in the storage vessels. The control of VOCs requires not only the installation of properly designed equipment, but also the maintenance and operation of that equipment. Information generated by the recordkeeping and reporting requirements is used by the Agency to ensure that facilities affected by this New Source Performance Standards (NSPS) continue to operate the control equipment properly, thereby minimizing VOCs emissions into the atmosphere. Responses to the collection of information are required to assure the control equipment is operated and maintained properly. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on December 22, 2000, 65 FR 80854; no comments were received.

Burden Statement: The annual public reporting and record keeping burden for this collection of information is estimated to average 75 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Predominately Petroleum Synthetic Organic Manufacturing.

Estimated Number of Respondents: 157.

Frequency of Response: Annually and varies.

Estimated Total Annual Hour Burden: 39,139.

Estimated Total Annualized Capital, O&M Cost Burden: 0.

Send comments on the Agency's need for this information, the accuracy of the provided burden estimates, and any suggested methods for minimizing respondent burden, including through the use of automated collection techniques to the addresses listed above. Please refer to EPA ICR Number 1050.07 and OMB Control Number 2060-0121 in any correspondence.

Dated: June 28, 2001.
Oscar Morales,
Director, Collection Strategies Division.

[FR Doc. 01-16944 Filed 7-5-01; 8:45 am]

BILLING CODE 6560-50-P